DEPARTMENT OF HEALTH AND HUMAN SERVICES

National Institutes of Health

National Institute of Mental Health; Amended Notice of Workshop

Notice is hereby given of a change in the Strategic Planning Workshop that will be convened by the Interagency Autism Coordinating Committee (IACC) and was published in the Federal Register on October 18, 2012, 77 FR 64117.

The Workshop is scheduled for October 29-30, 2012, and will now include sessions for public comment on both days on the material presented during the Workshop. Those wishing to provide oral public comment in person at the Workshop must sign up for oral comment at the check-in desk on the day of the Workshop. Due to scheduling constraints, oral comments will be limited to two minutes per person and will be on a first-come, first-served basis. If slots for the oral public comment sessions are full, each individual and/or organization will only be allowed to provide oral comment during one of the Workshop days in order to provide an opportunity for as many individuals/organizations as possible to participate. Those persons who are not able to make oral comments due to the time constraints, and those preferring to comment in written form, may submit their written comments pertaining to the material presented at the Workshop via email to IACCpublicinquiries@mail.nih.gov through Friday, November 2nd. All written comments will become part of the public record.

More information about the Workshop may be found on the web at: http://iacc.hhs.gov/events/.

Dated: October 18, 2012.
Carolyn A. Baum,
Program Analyst, Office of Federal Advisory Committee Policy.

[FR Doc. 2012-26098 Filed 10-23-12; 8:45 am]

BILLING CODE 4140-01-P